DEPARTMENT OF TRANSPORTATION

Federal Aviation Administration

Notice of Intent To Rule on Application To Impose and Use the Revenue From a Passenger Facility Charge (PFC) at MBS International Airport, Saginaw, MI

AGENCY: Federal Aviation Administration (FAA), DOT.

ACTION: Notice of Intent to Rule on Application.

SUMMARY: The FAA proposes to rule and invites public comment on the application to impose and use the revenue from a PFC at MBS International Airport under the provisions of the Aviation Safety and Capacity Expansion Act of 1990 (Title IX of the Omnibus Budget Reconciliation Act of 1990) (Public Law 101-508) and Part 158 of the Federal Aviation Regulations (14 CFR Part 158).

DATES: Comments must be received on or before May 24, 2001.

ADDRESSES: Comments on this application may be mailed or delivered in triplicate to the FAA at the following address: Federal Aviation Administration, Detroit Airports District Office, Willow Run Airport, East, 8820 Beck Road, Belleville, Michigan 48111.

In addition, one copy of any comments submitted to the FAA must be mailed or delivered to Ms. Elizabeth E. Owen, Airport Manager of the MBS International Airport at the following address: MBS International Airport, 8500 Garfield Road, Suite 101, Freeland, Michigan 48623.

Air carriers and foreign air carriers may submit copies of written comments previously provided to MBS International Airport under section 158.23 of Part 158.

FOR FURTHER INFORMATION CONTACT: Mr. Jon Gilbert, Program Manager, Federal Aviation Administration, Detroit Airports District Office, Willow Run Airport, East, 8820 Beck Road, Belleville, Michigan 48111 (734-487-7281). The application may be reviewed in person at this same location.

SUPPLEMENTARY INFORMATION: The FAA proposes to rule and invites public comment on the application to impose and use the revenue from a PFC at MBS International Airport under the provisions of the Aviation Safety and Capacity Expansion Act of 1990 (Title IX of the Omnibus Budget Reconciliation Act of 1990) (Public Law 101-508) and part 158 of the Federal Aviation Regulations (14 CFR Part 158).

On April 2, 2001, the FAa determined that the applicaiton to impose and use the revenue from a PFC submitted by MBS International Airport was substantially complete within the requirements of section 158.25 of Part 158. The FAA will approve or disapprove the application, in whole or in part, no later than June 29, 2001.

The following is a brief overview of the application.

PFC Application No.: 01-04-C-00-MBS.

Level of the proposed PFC: $3.00.

Proposed charge effective date: January 1, 2005.

Proposed charge expiration date: September 1, 2007.

Total estimated PFC revenue: $1,999,052.00.

Brief description of proposed projects: Snow Removal Equipment Procurement (Front End Loader); Design and Expand Snow Removal Equipment Building (Phase II); Expand Airline Terminal Building (Design Only); Reimbursement of Charges for PFC Application Preparation (PFC Number 99-03-C-00-MBS); Land Acquisition (Approximately 75.5 Acres); Rehabilitate Field Lighting (Runways and Taxiways).

Class or classes of air carriers which the public ageny has requested not be required to collect PFCs: FAR Part 135 operators who file FAA Form 1800-31.

Any person may inspect the application in person at the FAA office listed above under FOR FURTHER INFORMATION CONTACT.

In addition, any person may, upon request, inspect the application, notice, and other documents germane to the application in person at the MBS International Airport.

Issued in Des Plaines, Illinois, on April 30, 2001.
Benito De Leon,
Manager, Planning/Programming Branch, Airports Division, Great Lakes Region.

[FR Doc. 01-10137 Filed 4-23-01; 8:45 am]

BILLING CODE 4910-13-M